SECURITIES AND EXCHANGE COMMISSION

[Release No. 34-102223; File No. 10-244]

In the Matter of the Application of Green Impact Exchange, LLC for Registration as a National Securities Exchange; Notice of Designation of a Longer Period for Commission Action on Proceedings To Determine Whether To Grant or Deny an Application for Registration as a National Securities Exchange Under Section 6 of the Securities Exchange Act of 1934

January 16, 2025.

On May 9, 2024, Green Impact Exchange, LLC (“GIX”) filed with the Securities and Exchange Commission (“Commission”) a Form 1 application (“Form 1”) under the Securities Exchange Act of 1934 (“Act”), seeking registration as a national securities exchange under Section 6 of the Act.¹ Notice of the application was published for comment in the Federal Register on July 23, 2024.² The Commission received comments on the GIX Form 1,³ all expressing support for the Form 1. On October 21, 2024, the Commission instituted proceedings pursuant to Section 19(a)(1)(B) of the Act ⁴ to determine whether to grant or deny GIX's application for registration as a national securities exchange under Section 6 of the Act.⁵ After issuing the OIP, the Commission received comments opposing the Form 1 and a response letter from GIX.

¹ 15 U.S.C. 78f.

² See Securities Exchange Act Release No. 100547 (July 17, 2024), 89 FR 59795 (“Notice”).

³ The public comment file for GIX's Form 1 (File No. 10-244) is available on the Commission's website at: https://www.sec.gov/comments/10-244/10-244.htm.

⁴ 15 U.S.C. 78s(a)(1)(B).

⁵ See Securities Exchange Act Release No. 101397, 89 FR 85264 (Oct. 25, 2024) (“OIP”).

Section 19(a)(1)(B) of the Act provides that proceedings instituted to determine whether to deny an application for registration as a national securities exchange shall be concluded within 180 days of the date of a publication of notice of the filing of the application for registration.⁶ At the conclusion of such proceedings, the Commission, by order, shall grant or deny such registration.⁷ The Commission may extend the time for conclusion of such proceedings for up to 90 days if it finds good cause for such extension and publishes its reasons for so finding.⁸ The Notice was published for comment in the Federal Register on July 23, 2024.⁹ The 180th day after publication of the Notice is January 19, 2025. The Commission is extending the time period for granting or denying GIX's application for registration as a national securities exchange for an additional 90 days.

⁶ 15 U.S.C. 78s(a)(1)(B).

⁷ Id.

⁸ Id.

⁹ See supra note 2 and accompanying text.

The Commission finds good cause for extending the period for granting or denying GIX's application for registration as a national securities exchange because the extension will provide additional time for the Commission to assess whether GIX's Form 1 satisfies the requirements of the Act and the rules and regulations thereunder. As described in the Notice and OIP, GIX proposes to adopt novel Green Governance Standards.¹⁰ Therefore, the Commission believes that there is good cause to extend the time for conclusion of the proceedings for 90 days.

¹⁰ See OIP, supra note 5, 89 FR at 85266-67.

Accordingly, the Commission, pursuant to Section 19(a)(1)(B) of the Act,¹¹ designates April 19, 2025, as the date by which the Commission shall either grant or deny GIX's Form 1.

¹¹ 15 U.S.C. 78s(a)(1)(B).

By the Commission.
Sherry R. Haywood,
Assistant Secretary.

[FR Doc. 2025-01560 Filed 1-24-25; 8:45 am]

BILLING CODE 8011-01-P